DEPARTMENT OF TRANSPORTATION

Federal Aviation Administration

Notice Before Waiver With Respect to Land at Winchester Regional Airport, Winchester, Virginia

AGENCY: Federal Aviation Administration (FAA), DOT.

ACTION: Notice of intent of waiver with respect to land.

SUMMARY: The FAA is publishing notice of proposed release of approximately 13 acres of land at the Winchester Regional Airport, Winchester, Virginia to the Virginia Department of Transportation for the relocation of Virginia State Route 645. There are no impacts to the Airport and the land is not needed for airport development as shown on the Airport Layout Plan. The road is being relocated to provide more space for airport related development and the existing Route 645 right-of-way will be exchanged for the relocated road right-of-way.

DATES: Comments must be received on or before March 14, 2003.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Ms. Renny Manual, Secretary-Treasurer Luray-Page County Airport Commission, at the following address: Ms. Renny Manuel, Executive Director, Winchester Regional Airport Authority, 491 Airport Road, Winchester, Virginia 22602.

FOR FURTHER INFORMATION CONTACT: Mr. Terry Page, Manager, Washington Airports District Office, 23723 Air Freight Lane, Suite 210, Dulles, VA 20166; telephone (703) 661-1354, fax (703) 661-1370, email Terry.Page@faa.gov.

SUPPLEMENTARY INFORMATION: On April 5, 2000, new authorizing legislation became effective. That bill, the Wendell H. Ford Aviation investment and Reform Act for the 21st Century, Public Law 10-181 (Apr. 5, 2000; 114 Stat. 61) (AIR 21) requires that a 30-day public notice must be provided before the Secretary may waive any condition imposed on an interest in surplus property.

Issued in Chantilly, Virginia, on January 27, 2003.
Terry J. Page,
Manager, Washington Airports District Office, Eastern Region.

[FR Doc. 03-3457 Filed 2-11-03; 8:45 am]

BILLING CODE 4910-13-M